DEPARTMENT OF TRANSPORTATION

Pipeline and Hazardous Materials Safety Administration

49 CFR Part 192

[Docket No. PHMSA-RSPA-2004-19854; Amdt. 192-113]

RIN 2137-AE15

Pipeline Safety: Integrity Management Program for Gas Distribution Pipelines; Correction

AGENCY: Pipeline and Hazardous Materials Safety Administration (PHMSA), DOT.

ACTION: Final rule; correction.

SUMMARY: PHMSA is correcting a final rule that appeared in the Federal Register on December 4, 2009. That final rule amended the Federal Pipeline Safety Regulations to require operators of gas distribution pipelines to develop and implement integrity management programs. In addition to a minor correction in terminology, this document corrects an erroneous effective date given in the December 4 publication.

DATES: The effective date for the final rule published December 4, 2009 (74 FR 63906), is correctly revised from February 2, 2010, to February 12, 2010. The correction to § 192.383 is effective February 12, 2010.

FOR FURTHER INFORMATION CONTACT: Mike Israni by phone at (202) 366-4571 or by e-mail at Mike.Israni@dot.gov.

SUPPLEMENTARY INFORMATION: In FR Doc. E9-28467 appearing on page 63906 in the Federal Register of Friday, December 4, 2009 the following corrections are made:

1. On page 63906, in the first column, the effective date is corrected to read “Effective Date: This Final Rule takes effect on February 12, 2010.”

§ 192.383 [Corrected]

2. On page 63934, in the first column, in § 192.383:

a. In paragraph (a), “natural gas” is corrected to read “gas” in both places it appears; and

b. In paragraph (b), “February 2, 2010” is corrected to read “February 12, 2010.”

Issued in Washington, DC, on January 28, 2010.
Cynthia L. Quarterman,
Administrator.

[FR Doc. 2010-2186 Filed 2-1-10; 8:45 am]

BILLING CODE 4910-60-P